DEPARTMENT OF ENERGY

Federal Energy Regulatory Commission

[Docket No. EL16-65-000]

Northampton Generating Company, L.P.; Notice of Institution of Section 206 Proceeding and Refund Effective Date

On June 3, 2016, the Commission issued an order in Docket No. EL16-65-000, pursuant to section 206 of the Federal Power Act (FPA), 16 U.S.C. 824e (2012), instituting an investigation into the justness and reasonableness of Northampton Generating Company, L.P.'s reactive power rates. Northampton Generating Co., 155 FERC 61,242 (2016).

The refund effective date in Docket No. EL16-65-000, established pursuant to section 206(b) of the FPA, will be the date of publication of this notice in the Federal Register.

Dated: June 3, 2016.
Nathaniel J. Davis, Sr.,
Deputy Secretary.

[FR Doc. 2016-13960 Filed 6-13-16; 8:45 am]

BILLING CODE 6717-01-P